DEPARTMENT OF THE INTERIOR

Fish and Wildlife Service

[FWS-R2-R-2012-N277; FXRS1265022CCP0-134-FF02R06000]

Ozark Plateau National Wildlife Refuge; Adair, Cherokee, Craig, Delaware, Mayes, Ottawa, and Sequoyah Counties, OK; Draft Comprehensive Conservation Plan and Environmental Assessment

AGENCY: Fish and Wildlife Service, Interior.

ACTION: Notice of availability; request for comments.

SUMMARY: We, the U.S. Fish and Wildlife Service (Service), announce the availability of a draft comprehensive conservation plan (Draft CCP) and an environmental assessment (EA) for Ozark Plateau National Wildlife Refuge (NWR), which is located within the approved acquisition area of Adair, Cherokee, Craig, Delaware, Mayes, Ottawa, and Sequoyah Counties of Oklahoma, for public review and comment. The Draft CCP/EA describes our proposal for managing the Refuge for the next 15 years.

DATES: To ensure consideration, please send your written comments by March 8, 2013. Public meetings will be hosted on Monday, February 25th at the Delaware County Library, in Jay, OK 74346; Tuesday, February 26th at the Stilwell Community Center in Stilwell, OK; and Thursday, Februay 28th in the Community Ballroom of the Cherokee Nation Tribal Headquarters in Tahlequah, OK. All three meetings will begin at 5:30 p.m.

ADDRESSES: You may submit comments or requests for copies or more information on the Draft CCP/EA by any of the methods listed below. You may request hard copies or a CD-ROM of the Draft CCP/EA documents. Please contact Sarah Catchot, Lead Planner, or Shea Hammond, Refuge Wildlife Specialist.

Email: sarah_catchot@fws.gov. Include “Ozark Plateau NWR Draft CCP and EA” in the subject line of the message.

U.S. Mail: Sarah Catchot, Lead Planner, U.S. Fish and Wildlife Service, NWRS Division of Planning, P.O. Box 1306, Albuquerque, NM 87103.

FOR FURTHER INFORMATION CONTACT: Shea Hammond, Refuge Wildlife Specialist of Ozark Plateau National Wildlife Refuge, 16602 County Road 465, Colcord, OK 74338, Phone: 918-326-0156.

SUPPLEMENTARY INFORMATION:

Introduction

With this notice, we continue the CCP process for the Ozark Plateau National Wildlife Refuge. We started this process through a notice in the Federal Register on June 19, 1998 (63 FR 33693).

The Refuge manages several units scattered throughout its seven-county (Adair, Cherokee, Craig, Delaware, Mayes, Ottawa, and Sequoyah) approved acquisition area in northeastern Oklahoma. Management units of Ozark Plateau NWR are identified, acquired, and/or managed based upon impact to federally listed threatened or endangered Ozark cave species, including cave habitat, groundwater recharge areas, foraging areas, and movement corridors important to these species as well as other species of concern. In addition, Ozark Plateau NWR's management units play a role in conserving continuous tracts of mature oak-hickory or oak-hickory-pine Ozark forest, beneficial to nesting and migrating Neotropical birds as well as cave species.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for wildlife observation and photography, and environmental education and interpretation. We will review and update the CCP at least every 15 years in accordance with the Refuge Administration Act.

Public Outreach

Formal scoping began with publication of a notice of intent to prepare a comprehensive conservation plan and environmental assessment in the Federal Register on June 19, 1998 (63 FR 33693). The Refuge solicited public comments on issues and concerns to aid in CCP development through three open house meetings held in December 2009 at Tribal Headquarters of the Cherokee Nation in Tahlequah, the Senior Center in Stilwell, and the Delaware County Library in Jay, Oklahoma.

The Refuge also met on March 3, 2010, with the Cherokee Nation Environmental Protection Commission at the Cherokee Nation Headquarters to understand issues concerning the tribe and discuss potential ways to collaborate on solving issues common to the two agencies. On March 4, 2010, the Refuge met with the Oklahoma Department of Wildlife Conservation staff at the Porter Office in Oklahoma also to discuss their concerns regarding past management, future management, and issues common to both agencies.

The feedback received at the conclusion of the public scoping period identified numerous concerns from a variety of stakeholders. These concerns were organized by the following seven broad issue categories: Landscape-level, Habitat Management, Wildlife Management, Public Use Opportunities, Cultural Resources, Facilities & Infrastructure, and Administration.

CCP Alternatives We Are Considering

During the public scoping process with which we started work on this Draft CCP, we, other Federal agencies, Tribal Nations, State agencies, and the public raised multiple issues. Our Draft CCP addresses them. A full description of each alternative is in the EA (see Appendix A). To address these issues, we developed and evaluated the following alternatives, summarized in the table below.

Issue | Alternative A: current management | Alternative B: proposed future management
Landscape-Level Management Issue 1: Ozark Habitat Loss & Fragmentation | Acquire land from willing sellers or enter into agreements for conservation easements; maintain strong landscape-level partnerships; maintain 4,000 acres of forested habitat; restore 70 acres of agricultural land to forested habitat at Beck Unit; refrain from developing new roads or infrastructure | Alternative (Alt) A + partner with the FWS southwestern, midwestern, southeastern and mountain-prairie regions to expand acquisition boundaries in the Ozark ecoregion; maintain, conserve, and restore up to 15,000 acres of acquired lands to native forest habitat.
Landscape-Level Management Issue 2: Climate Change | Monitor baseline data on cave microclimate changes; use energy-efficient heating/cooling system and water filtration system on Looney facility | Alt A + implement long-term Anabat monitoring stations to monitor climate change impacts to bat species; expand data loggers for climate info; install weather stations; install solar panels on Refuge facilities; sequester carbon by restoring up to 15,000 acres of acquired lands to native forest habitat.
Landscape-Level Management Issue 3: Surface and Groundwater Quality & Quantity | Survey groundwater recharge areas; acquire land and conservation easements from willing sellers to restore forest and control run-off; partner with adjacent and nearby landowners; sample water quality | Alt A + partner with U.S. Geological Services (USGS) and local universities to implement a permanent water quality and quantity monitoring program.
Landscape-Level Management Issue 4: White-nose Syndrome (WNS) | Implement actions in WNS National Plan; close caves to the public; partner to monitor for WNS on and off Refuge; take recommended preventative measures in decontamination of staff caving gear; perform public outreach; gain Law Enforcement (LE) support from Sequoyah NWR | Alt A + coordinate/partner to implement permanent monitoring program to monitor species at risk, track movement and occurrence of WNS, and search for physical signs in Ozark ecoregion; develop a Refuge-specific WNS contingency plan; identify migration corridors; increase LE support; investigate feasibility of installing alarms inside caves.
Landscape-Level Management Issue 5: Wind Energy Farms | Monitor baseline data of bird/bat populations affected by wind turbines and determine locations to minimize impacts | Alt A + identify bat migration corridors; use GIS to delineate high-risk areas; quantify impacts; investigate mitigation measures.
Habitat Management Issue 1: Degradation of Cave, Stream, and Forest Habitat | Build and repair cave gates on- and off-Refuge; post signs prohibiting entry of caves; maintain confidentiality of cave locations; gain LE support “on call” from Sequoyah NWR; partner with landowners; survey and mark boundaries; implement fire management plans for Looney and Sally Bull Hollow Units | Alt A + increase LE presence; install alarm systems and infrared cameras at caves; search for unknown caves with partners; outreach to landowners.
Habitat Management Issue 2: Lack of Detailed Scientific Cave Habitat Data | Perform cave bio-inventories; survey bat hibernacula and maternity sites; survey cavefish and cave crayfish; map subterranean extent of caves | Alt A + partner to develop habitat suitability indexes for cave species; research effects of prescribed burning/thinning on cave habitats and wildlife; implement acoustic monitor program for non-listed species; survey macroinvertebrates and other cave fauna.
Habitat Management Issue 3: Invasive Flora | Remove with handtools, chainsaws, and mow on 10 acres; partner for burns and invasive control; inventory vegetation with Oklahoma State University; (see Fire Management, below) | Alt A + work with partners to identify, document, and monitor all plant species occurring on the Refuge; assess changes in vegetation over time; use mechanical treatments and if necessary, use herbicide spot-treatment a maximum of one to three applications per year, March-November (see Fire Management, below).
Habitat Management Issue 4: Fire Management | Coordinate response to all wildfires based on ecological, social, and legal consequences of fire; implement Fire Management Plans for Looney and Sally Bull Hollow Units, including prescribed burns of 400 acres/year every 3-5 years | Alt A + develop a Refuge-wide Fire Management Plan to increase use of prescribed fire to ⅓ of Refuge's total acreage/year every 3-5 years; establish agreements with landowners to increase use of prescribed fire surrounding the Refuge; monitor effects of prescribed fire and midstory thinning on habitats and species.
Wildlife Management Issue 1: Threatened and Endangered (T&E) Species and Species of Concern | Continue annual bio-inventorying research of cave fauna; monitor surveys of bat populations, activity, guano measurements, and cavefish/crayfish counts; monitor emergence/foraging/migration of bat species using radio telemetry, infrared video, and thermal imaging; partner with universities for genetic research | Alt A + establish permanent, stationary acoustic monitors in and around caves on all Units; establish permanent acoustic survey program on designated routes; develop a habitat suitability index model for T&E cave species; increase genetic research; install permanent cameras in caves; increase prescribed fires to all Units (see Fire Management).
Wildlife Management Issue 2: Migratory and Resident Bird Species | Conduct bird counts during migration seasons; use prescribed fire on Looney and Sally Bull Hollow Units; enforce limited public use | Alt A + identify all migratory bird species occurring on or near the Refuge (spring and fall); conduct seasonal nesting studies and MAPS banding of birds monthly for 6 months each year; increase prescribed fires to all Units (see Fire Management).
Wildlife Management Issue 3: Resident Non-T&E Species | Conduct mobile acoustic monitoring once or twice a month from spring through fall from roadways and cave entrances; perform bio-inventories in 2-3 caves every 5 years | Alt A + establish permanent, stationary acoustic monitors in and around caves on all Units; establish permanent acoustic survey program on designated routes; perform annual count surveys of non-listed cavefish and mark recapture of cave crayfish; survey all wildlife species occurring on Refuge; increase genetic research of cave species; install permanent cameras in caves; increase prescribed fires to all Units (see Fire Management).
Wildlife Management Issue 4: Invasive Fauna Species and Pest Management | No management for invasive fauna species and/or pests | Partner to identify, document, and monitor all species occurring on the Refuge; conduct a feral hog, feral cat, and hothouse millipede survey; research eradication strategies; if necessary, develop an Integrated Pest Management Plan.
Public Use Management Issue 1: Hunting | No hunting permitted | Develop a Hunt Plan to allow walk-in-only, open-access hunting on the Sally Bull Hollow Unit, adjacent to the State-managed Ozark Plateau Wetlands Management Area (WMA).
Public Use Management Issue 2: Environmental Education (EE) | Partner to offer place-based EE programs on the Looney Unit and at the Mary & Murray Looney Education & Research Center (MMLERC), by permit only, limited to 10-20 people, 2-3 times per month in spring and fall, 1-2 times per month in summer and 1 per month in winter | Alt A + increase visitation to 50-100 people per week, 3-4 times per week in spring, summer, and fall and 10-20 people per week, 1-2 times per week in winter; expand programs to include after- and home- school, teacher continuing education, gardening program, tribal-lead; train other FWS and partner agencies in effective EE methods; if necessary, develop a Visitor Services Plan.
Public Use Management Issue 3: Interpretation | Partner to conduct interpretation programs on the Looney Unit and MMLERC, by permit only, for approximately 25 people per month on-site and to 5 to 100s of people per month off-site | Alt A + offer interpretive programs to include permaculture gardening, showcase Refuge use of sustainable/green technologies; if necessary, develop a Visitor Services Plan.
Public Use Management Issue 4: Wildlife Observation & Photography | Provide opportunities by permit only on the Looney Unit, in conjunction with interpretive and/or EE programs | Alt A + allow walk-in access of wildlife observation and photography on Sally Bull Hollow Unit, aside from hunting season; explore additional opportunities on acquired lands; prohibit use in caves; install photography blinds and 3 primitive overlook areas on Looney Unit trails and potentially newly acquired lands.
Public Use Management Issue 5: Wood Harvesting | Prohibit wood harvesting by the public | Permit wood harvesting by the public of downed-trees as Refuge forest and wildlife management needs dictate.
Public Use Management Issue 6: Public Outreach | Maintain confidentiality to protect Refuge resources (no pamphlets/fliers available) | Create a flier/brochure to advertise Visitor Services opportunities and update Refuge websites to include contact info; work with volunteers to establish an official Friends group to assist with public outreach.
Cultural/Historical Resources Management Issue 1: Historical Sites | Keep sites confidential; partner with State Historic Preservation Office (SHPO) to preserve sites | Alt A + increase LE from Sequoyah NWR to secure known sites; partner to preserve and perform studies on known sites and newly discovered sites.
Cultural/Historical Resources Management Issue 2: Archeological and Paleontological Sites | Keep sites confidential; partner with SHPO, Sam Noble Museum archeologists, and paleontologists to preserve sites | Alt A + increase LE from Sequoyah NWR to secure known sites; partner to preserve and survey known sites and newly discovered sites.
Facilities/Infrastructure Management Issue 1: Mary & Murray Looney Education & Research Center (MMLERC) | Operate and maintain MMLERC (1,200 sq. ft.) facility; maintain Americans with Disability Act (ADA) accessibility | Alt A + renovate roof; insulate basement and attic; renovate cabin exterior; renovate porch; renovate front door to be ADA-accessible; renovate one bathroom to be ADA-accessible; install monitored alarm system; replace plumbing system; replace electrical system; replace propane gas lines; install energy-efficient windows; maintain water filter; install rainwater collection system; build raised garden beds and re-landscape with native plants; install solar panels; use energy-efficient heating and cooling system and appliances; install A/V technology; remove small cabin adjacent to MMLERC and replace with a 800 sq. ft. outdoor pavilion studio space and bridge.
Facilities/Infrastructure Management Issue 2: Access Roads | Maintain a 0.25-mile unpaved and unimproved access road to the MMLERC, with a gate; maintain an unpaved parking area for approximately 10 vehicles; excess parking near the maintenance shop | Alt A + improve roads and parking areas, including: widen MMLERC access drive/parking area by 2 feet and improve with gravel; improve road with gravel from county road to maintenance shop; improve parking area surfaces with gravel; improve 0.3 miles of gravel road on Beck Unit; improve and/or maintain roads on newly acquired lands, if necessary.
Facilities/Infrastructure Management Issue 3: Nature Trails and Overlooks | Utilize and maintain trails around the Refuge, including: deteriorating path from the MMLERC to the pavilion, small path from the parking area to the MMLERC, ¼-mile trail from MMLERC to Spavinaw Creek, ⅛-mile trail from MMLERC to the old garden area at top of hill, 150-yard trail from Guess house to the MMLERC, and ¼-mile trails near the Guess house; no established overlook areas | Alt A + Establish a 0.25-mile primitive trail to connect the MMLERC trail to maintenance shop trail; build a 2-mile primitive trail around the perimeter of the Looney Unit; repave the 0.1-mile concrete path from the MMLERC cabin to the pavilion; improve the 0.25-mile trail with gravel from the Looney maintenance shop to the MMLERC; improve the 0.1-mile primitive trail with gravel from the parking/camping area on top of the hill down to the MMLERC.
Facilities/Infrastructure Management Issue 4: Public Use Signs and Interpretive Displays | No public use signs or interpretive signs posted on any Refuge units, except for outside of caves stating that they are closed to the public | Construct and post a sign for the MMLERC and new HQ site; install directional MMLERC sign at the county road entrance; install signs at all cave entrances to prohibit public entry and also to inform them about White-nose Syndrome (WNS); install limited interpretive signage on Looney Unit.
Facilities/Infrastructure Management Issue 5: Refuge Headquarters (HQ) Site | No centralized HQ site—each staff member works out of the Oklahoma ES Office in Tulsa, the MMLERC (Refuge), and/or Sequoyah NWR | Acquire up to 15,000 acres of land and conservation easements from willing sellers within the approved acquisition boundary and utilize an acquired building(s), if appropriate, for new centralized HQ site; or build a new HQ site on centralized acquired site.
Facilities/Infrastructure Management Issue 6: Boundaries | Maintain and repair 60 miles of Unit boundaries with a total of over 4 miles of fencing and 11 gates | Alt A + Contract surveyors to survey and mark all un-surveyed/un-marked Unit boundaries on the Refuge; maintain new markers.
Facilities/Infrastructure Management Issue 7: Maintenance Shops and Service Buildings | Utilize and maintain three maintenance shops: Beck Unit Shop—50 x 30 ft metal building on concrete pad, Looney Unit: 50 x 30 ft metal building on concrete pad, and Guess House Shop | Alt A + build an additional 50 x 100 ft metal building on concrete pad maintenance shop at new HQ site; construct additional decontamination and storage facility at new HQ, with ventilation building; outfit facilities; construct a fueling station for Refuge vehicles and equipment at new HQ; reconstruct existing pole barn on the Beck Unit.
Facilities/Infrastructure Management Issue 8: Refuge Housing | Provide Refuge housing for Refuge staff at the Guess House and one bedroom for staff, volunteers, guests, etc. at the MMLERC cabin (Looney Unit); maintain agreement with Leslie Krause | Alt A + once HQ is established, convert existing Refuge office to a second guest room at the MMLERC; new HQ plan would include kitchen/bath facilities; construct two Recreational Vehicle (RV) pads at the new HQ site; construct RV pad on the Looney Unit; when agreement with Leslie Krause is terminated (donation), renovate Krause residence for Refuge housing.
Administration Management Issue 1: Funding and Staffing | Receive funding and staffing for operations, infrastructure, and maintenance, determined by Congress and allocated to refuges by the Southwest Regional Office of the U.S. Fish and Wildlife Service; seek additional funding such as applying for grants and working with Non-Government Organizations (NGOs) in order to leverage funds | Same as Alt A.
Administration Management Issue 2: Volunteers/Friends Program | No official Friends group established (support from National Speleological Society local chapters); approximately 5,000 to 10,000 volunteer hours total per year | Alt A + coordinate with unofficial Friends group and/or dedicated volunteer members to encourage formation of official Friends Group; perform outreach to increase part-time, non-resident volunteers to approximately 10,000 to 20,000 volunteer hours per year; educate and train volunteers.
Administration Management Issue 3: Coordinate Beyond FWS Regional Boundaries to More Effectively Manage Federally Listed Cave Species on a Landscape Level | No management agreement in place to coordinate across FWS Regional boundaries to manage cave habitat and species | Coordinate with the State of Arkansas and FWS Region 4 to manage or co-manage Logan Cave NWR as a Unit of Ozark Plateau NWR; coordinate with the State of Missouri and FWS Region 3 to manage or co-manage Cavefish NWR and Pilot Knob NWR as Units of Ozark Plateau NWR; coordinate with the State of Kansas and FWS Region 6 for Ozark Plateau NWR to cooperate management of federally listed Ozark cave species; expand and establish new acquisition areas within the Ozark landscape across multiple State and Regional boundaries.

Public Availability of Documents

In addition to any methods in ADDRESSES, you can view or obtain documents at the following locations:

• Our Web site: http://www.fws.gov/southwest/refuges/Plan/plansinprogress.html.

• At the following public libraries:

Library | Address | Phone number
Delaware County Library | 429 South 9th St., Jay, OK 74346 | 918-253-8521
Stilwell Public Library | 5 N 6th St., Stilwell, OK 74960 | 918-696-7512
Tahlequah Public Library | 120 S College Ave., Tahlequah, OK 74464 | 918-456-2581
Miami Public Library | 200 N. Main, Miami, OK 74354 | 918-542-3064
Stanley Tubbs Memorial Library | 101 E Cherokee Ave., Sallisaw, OK 74955 | 918-596-7897
Central Library | 400 Civic Ctr., Tulsa, OK 74103 | 918-596-7897

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Next Steps

After this comment period ends, we will analyze each comment and address them in an appendix form of the Final CCP along with a finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: November 30, 2012.
Joy Nicholopoulos,
Regional Director, Southwest Region.

[FR Doc. 2013-02976 Filed 2-6-13; 11:15 am]

BILLING CODE 4310-55-P